DEPARTMENT OF THE INTERIOR

Bureau of Land Management

[UTU-78576]

Recreation and Public Purposes, Classification and Termination; UT

AGENCY: Bureau of Land Management, Interior.

ACTION: Notice.

SUMMARY: On October 4, 2000, 80 acres of public land were classified and segregated for Recreation and Public Purposes (R&PP) purposes (UTU-78576). Subsequently it was determined that a fifty acre portion of this classification contained resource values which should remain in public ownership. Therefore, the classification on these fifty acres of public land in Garfield County is being terminated. In place of this 50 acre parcel, an additional thirty acres which have been determined to not contain these values are hereby classified for disposal under the Recreation and Public Purposes Amendment Act of 1988 (Pub. L. 100-648).

FOR FURTHER INFORMATION CONTACT: Frank Olsen, 318 North 100 East, Kanab, UT 84741.

SUPPLEMENTARY INFORMATION: Classification Termination: The description of the land on which the classification is terminated is: Salt Lake Meridian, Utah, T. 35 South, R. 5 West, Section 5, SW¼SE¼SW¼; Section 9, N½NE¼NW¼; N½NW¼NW¼, containing 50 acres more or less.

Effective September 24, 2001 the Recreation and Public Purposes classification for the parcel of land described above, is hereby terminated. At 8 a.m. September 24, 2001, the land described above will be opened to the operation of the public land laws generally, including location and entry under the United States mining laws, subject to valid existing rights, other segregations of record, and the requirements of applicable law.

New Classification: The following public land in Garfield County, Utah has been examined and found suitable for classification for conveyance under the provisions of the R&PP Amendment Act of 1988 (Pub. L. 100-648): Salt Lake Meridian, Utah, T. 35 South, R. 5 West, Section 8, N½NW¼NE¼, NE¼NE¼NW¼, containing 30 acres. Garfield County intends to use the land in conjunction with the adjacent land previously classified under this Act for a public shooting range. The land is not needed for a Federal purpose. Conveyance is consistent with current Bureau of Land Management land use planning and would be in the public interest. The land is hereby segregated from appropriation under any other public land law, including locations under the mining laws.

DATES: On or before November 8, 2001, interested parties may submit comments regarding the proposed classification. In the absence of adverse comments, the classification will become effective November 23, 2001.

Rex Smart,
Acting Field Office Manager.

[FR Doc. 01-23734 Filed 9-21-01; 8:45 am]

BILLING CODE 4310-$$-P